DEPARTMENT OF DEFENSE

Office of the Secretary

[Docket No. DoD-2009-OS-0103]

Proposed Collection; Comment Request

AGENCY: Office of the Under Secretary of Defense for Personnel and Readiness, DoD.

ACTION: Notice

In compliance with Section 3506(c)(2)(A) of the Paperwork Reduction Act of 1995, the Office of the Under Secretary of Defense for Personnel and Readiness announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by September 15, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Principal Deputy Under Secretary of Defense for Personnel and Readiness, Morale, Welfare and Recreation Policy Directorate, 1525 Wilson Blvd, Ste 225, Arlington, VA 22209-2411; ATTN: James.Ellis, e-mail: james.ellis@osd.mil; telephone (703) 588-0877.

Title and OMB Control Number: Letter of Application to Solicit on DoD Installations; OMB Control Number 0704-0439.

Needs and Uses: This information collection is necessary to ensure established annual procedures for the DoD registration requirement for the sale of insurance and securities on DoD installations are met. The letter received from the applicants provides information relative to the areas they intend to do business in, attests to their company's ability to pay claims as well as their rating within the insurance industry for the preceding business year. It also attests to their compliance with Department policies and procedures.

The purpose of this information collection is to assist the Secretary of Defense and secretaries of the Military Departments in ensuring that established procedures are in place to protect our Service personnel from unscrupulous business people who would take advantage through the sale of insurance and financial products that may not meet their needs.

Affected Public: Business or other-for profit; Federal government.

Annual Burden Hours: 5.

Number of Respondents: 10.

Responses Per Respondent: 1.

Average Burden Per Response: 20 minutes.

Frequency: Annually.

SUPPLEMENTARY INFORMATION:

Summary of Information Collection

Respondents will be completing a standard letter application signed by the President, Vice President, or designated official of the insurance company and forwarded to the Principal Deputy Under Secretary of Defense for Personnel and Readiness. The letter contains certifying statements that the company is in compliance with the application requirements.

Dated: May 28, 2009.
Patricia L. Toppings,
OSD Federal Register Liaison Officer, Department of Defense.

[FR Doc. E9-17066 Filed 7-16-09; 8:45 am]

BILLING CODE 5001-06-P